DEPARTMENT OF DEFENSE

Department of the Navy

[USN-2007-0010]

Privacy Act of 1974; System of Records

AGENCY: Department of the Navy, DOD.

ACTION: Notice of new system of records.

SUMMARY: The Department of the Navy proposes to add a system of records to its inventory of record systems subject to the Privacy Act of 1974 (5 U.S.C. 552a), as amended.

DATES: The proposed action will be effective on March 5, 2007 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available: from the address above.

The proposed systems reports, as required by 5 U.S.C. 552a(r) of the Privacy Act, were submitted on January 24, 2007 to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: January 29, 2007.
C.R. Choate,
Alternate OSD Federal Register Liaison Officer, Department of Defense.

N01750-1

System name:

Navy Ombudsman Registry.

System location:

Fleet and Family Support Program, Navy Installations Command, 2713 Mitscher Road, SW., Ste 300, Anacostia Annex, DC 20373-5802.

Categories of individuals covered by the system:

Navy ombudsmen.

Categories of records in the system:

Name, addresses (home, business, and e-mail, phone numbers (home, office, cell, and fax), command name and address, command unit identification code (UIC), gender, and training dates.

Authority for maintenance of the system:

10 U.S.C. 5013, Secretary of the Navy and OPNAVINST 1750.1F, Navy Family Ombudsmen Program.

Purpose(s):

To identify Navy ombudsmen; provide them with program information; collect program statistics and workload data; and maintain record of program training received.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD `Blanket Routine Uses' that appear at the beginning of the Navy's compilation of systems of records notices apply to this system.

Policies and practices for storing, retrieving, accessing, retaining, and disposing of records in the system:

Storage:

Electronic database.

Retrievability:

Name and organization.

Safeguards:

Password controlled system. Access limited to program coordinators, commanding officers and/or their appointed representatives.

Retention and disposal:

Destroy when ombudsmen resigns from position or is replaced.

System manager(s) and address:

Director, Family Readiness Programs, Navy Installations Command, 2713 Mitscher Road, SW., Ste 300, Anacostia Annex, DC 20373-5802.

Notification procedure:

Individuals seeking to determine whether information about themselves is contained in this system of records should address written inquiries to the Director, Family Readiness Programs, Navy Installations Command, 2713 Mitscher Road, SW., Ste 300, Anacostia Annex, DC 20373-5802.

The request should include full name and should be signed.

Record access procedures:

Individuals seeking access to information about themselves contained in this system of records should address written inquiries to the Director, Family Readiness Programs, Navy Installations Command, 2713 Mitscher Road, SW., Ste 300, Anacostia Annex, DC 20373-5802.

The request should include full name and should be signed.

Contesting record procedures:

The Navy's rules for accessing records, and for contesting contents and appealing initial agency determinations are published in Secretary of the Navy Instruction 5211.5; 32 CFR part 701; or may be obtained from the system manager.

Record source categories:

Individual and commanding officer and/or their appointed representative.

Exemptions claimed for the system:

None.

[FR Doc. E7-1731 Filed 2-1-07; 8:45 am]

BILLING CODE 5001-06-P